DEPARTMENT OF HEALTH AND HUMAN SERVICES

Administration for Children and Families

Submission for OMB Review; ORR Serious Medical Procedure Request (SMR) Form (New Collection)

AGENCY: Office of Refugee Resettlement, Administration for Children and Families, HHS.

ACTION: Request for public comment.

SUMMARY: The Office of Refugee Resettlement (ORR), Administration for Children and Families (ACF), U.S. Department of Health and Human Services (HHS), is proposing to collect data for a new data collection, the Serious Medical Procedure Request (SMR) Form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Children with complex medical/dental conditions may require surgical intervention or procedures in order to maintain and promote their health while in ORR custody. Procedures requiring general anesthesia, surgeries, and invasive diagnostic procedures (e.g., cardiac catheterization, invasive biopsy, amniocentesis) require advance ORR approval. Before a decision can be rendered by ORR, data on clinical indications, risks and benefits of the surgery/procedure, potential adverse outcomes if services are not rendered, timeframe for recovery, follow-up care, and points of contact must be collected and submitted to ORR. The form is not required for emergency procedures, procedures performed during hospitalization, or procedures resulting from complication of a previously approved procedure.

Respondents: Healthcare providers, ORR grantee staff.

Annual Burden Estimates:

Estimated Opportunity Burden for Respondents
Instrument | Annual number of respondents | Annual number of responses per respondent | Average burden hours per response | Total burden hours | Annual burden hours
Healthcare providers:
Serious Medical Procedure Request (SMR) Form | 195 | 1 | .22 | 128.7 | 42.9

Estimated Total Annual Burden Hours: 42.9.

Instrument | Annual number of respondents | Annual number of responses per respondent | Average burden hours per response | Total burden hours | Annual burden hours
ORR Grantee Staff:
Serious Medical Procedure Request (SMR) Form | 195 | 1 | .08 | 46.8 | 15.6

Estimated Total Annual Burden Hours: 15.6.

Estimated Recordkeeping Burden for Respondents
Instrument | Annual number of respondents | Annual number of responses per respondent | Average burden hours per response | Total burden hours | Annual burden hours
ORR Grantee Staff:
Serious Medical Procedure Request (SMR) Form | 195 | 1 | .08 | 46.8 | 15.6

Estimated Total Annual Burden Hours: 15.6.

Authority: 6 U.S.C. Section 279: Exhibit 1, part A.2 of the Flores Settlement Agreement (Jenny Lisette Flores, et al., v. Janet Reno, Attorney General of the United States, et al., Case No. CV 85-4544-RJK [C.D. Cal. 1996]).

Mary B. Jones,
ACF/OPRE Certifying Officer.

[FR Doc. 2020-26121 Filed 11-24-20; 8:45 am]

BILLING CODE 4184-45-P